ELECTION ASSISTANCE COMMISSION

Sunshine Act Notice

AGENCY: United States Election Assistance Commission.

ACTION: Notice of public meeting (amended).

Date and Time: Thursday, February 8, 2007, 10 a.m.-1 p.m.

Place: U.S. Election Assistance Commission, 1225 New York Ave, NW., Suite 150, Washington, DC 20005 (Metro Stop: Metro Center).

Agenda: The Commission will receive an update on the Interim Voting System Laboratory Accreditation Program; The Commission will consider whether to terminate the interim program and will receive an update on the full Voting System Laboratory Accreditation Program; The Commission will receive an update on the EAC audit process and hear presentations from state officials on their experiences with the audit process; The Commission will receive a presentation of the research findings regarding voter identification requirements. The Commission will consider other administrative matters.

This meeting will be open to the public.

FOR FURTHER INFORMATION CONTACT: Bryan Whitener, Telephone: (202) 566-3100.

Donetta L. Davidson,
Chair, U.S. Election Assistance Commission.

[FR Doc. 07-438 Filed 1-29-07; 11:20 am]

BILLING CODE 6820-KF-M